DEPARTMENT OF JUSTICE

[OMB Number 1125-0006]

Agency Information Collection Activities; Proposed eCollection eComments Requested; Extension of a Previously Approved Collection; Title: Notice of Entry of Appearance as Attorney or Representative Before the Immigration Court (EOIR-28)

AGENCY: Executive Office for Immigration Review, Department of Justice.

ACTION: 60-Day notice.

SUMMARY: The Department of Justice (DOJ), Executive Office for Immigration Review (EOIR) will be submitting the following information collection request to the Office of Management and Budget (OMB) for review and approval in accordance with the Paperwork Reduction Act of 1995.

DATES: Comments are encouraged and will be accepted for 60 days until November 15, 2024.

FOR FURTHER INFORMATION CONTACT: If you have additional comments especially on the estimated public burden or associated response time, suggestions, or need a copy of the proposed information collection instrument with instructions or additional information, please contact Laeticia Mukala-Nirere, Attorney Advisor, Office of the General Counsel, Executive Office for Immigration Review, 5107 Leesburg Pike, Suite 2600, Falls Church, VA 22041, telephone: (703) 305-0470, EOIR.PRA.Comments@usdoj.gov or Kabina.L.Mukala-Nirere@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: An attorney or Accredited Representative (with full accreditation) must register with the EOIR eRegistry in order to practice before the Immigration Court (see 8 CFR 1292.1(f)). Registration must be completed online on the EOIR website at www.justice.gov/eoir. An appearance shall be filed on a Form EOIR-28 by the attorney or representative appearing in each case before an Immigration Judge (see 8 CFR 1003.17). A Form EOIR-28 shall be filed either as an electronic form, or as a paper form, as appropriate.

Overview of This Information Collection

1. Type of Information Collection: Renewal, with change, of a currently approved collection. EOIR is making several non-substantive changes to the current Form EOIR-28, including moving the word “alien” on the first page to the subsequent sentence; moving the “Law Firm/Organization” field to the line below the “Name” field, and moving the “Address” field below “Law Firm/Organization; correcting EOIR website address, and updating the toll number and website address to obtain automated case information. EOIR is also making several minor but substantive changes to the current Form EOIR-28, to include clarifying the information required of reputable individuals; adding language explaining the types of appearances before the Immigration Court and corresponding obligations; and modifying the paragraph explaining what constitutes an appearance on behalf of a respondent.

2. The Title of the Form/Collection: Notice of Entry of Appearance as Attorney or Representative Before the Immigration Court.

3. The agency form number, if any, and the applicable component of the Department sponsoring the collection: The form number is EOIR-28; the sponsoring component is Executive Office for Immigration Review, United States Department of Justice.

4. Affected public who will be asked or required to respond, as well as the obligation to respond: Primary: Attorneys and qualified representatives notifying the Immigration Court that they are representing a respondent in immigration proceedings. Other: None. Abstract: This information collection is necessary to allow an attorney or representative to notify the Immigration Court that he or she is representing a respondent before the Immigration Court.

5. An estimate of the total number of respondents and the amount of time estimated for an average respondent to respond: It is estimated that 1,536,921 respondents will complete the form annually with an average of 6 minutes per response.

6. An estimate of the total annual burden (in hours) associated with the collection: The estimated public burden associated with this collection is 153,692 hours. It is estimated that respondents will take 6 minutes to complete the form.

7. An estimate of the total annual cost burden associated with the collection, if applicable:

Total Burden Hours
Activity | Number of respondents | Frequency | Total annual responses | Time per response | Total annual burden (hours)
Title | 1,536,921 | Annually |  | 6 minutes | 153,692
Unduplicated Totals |  |  |  |  | hrs.

If additional information is required contact: Darwin Arceo, Department Clearance Officer, United States Department of Justice, Justice Management Division, Policy and Planning Staff, Two Constitution Square, 145 N Street NE, 4W-218, Washington, DC.

Dated: September 11, 2024.
Darwin Arceo,
Department Clearance Officer for PRA, U.S. Department of Justice.

[FR Doc. 2024-20973 Filed 9-13-24; 8:45 am]

BILLING CODE 4410-30-P